DEPARTMENT OF COMMERCE

National Oceanic and Atmospheric Administration

RIN 0648-X026

International Whaling Commission; 61st Annual Meeting; Nominations

AGENCY: National Marine Fisheries Service (NMFS), National

Oceanic and Atmospheric Administration (NOAA), Commerce.

ACTION: Notice; request for nominations.

SUMMARY: This notice is a call for nominees for the U.S. Delegation to the June 2009 International Whaling Commission (IWC) annual meeting. The non-federal representative(s) selected as a result of this nomination process is(are) responsible for providing input and recommendations to the U.S. IWC Commissioner representing the positions of non-governmental organizations. Generally, only one non-governmental position is selected for the U.S. Delegation.

DATES: The IWC is holding its 61st annual meeting from June 22-26, 2009, in Madeira, Portugal. All written nominations for the U.S. Delegation to the IWC annual meeting must be received by April 24th, 2009.

ADDRESSES: All nominations for the U.S. Delegation to the IWC annual meeting should be addressed to Bill Hogarth, U.S. Commissioner to the IWC, and sent via post to: Ryan Wulff, National Marine Fisheries Service, Office of International Affairs, 1315 East-West Highway, SSMC3 Room 12620, Silver Spring, MD 20910.

FOR FURTHER INFORMATION CONTACT: Ryan Wulff, 301-713-9090, ext. 196.

SUPPLEMENTARY INFORMATION: The Secretary of Commerce is charged with the responsibility of discharging the domestic obligations of the United States under the International Convention for the Regulation of Whaling, 1946. The U.S. IWC Commissioner has responsibility for the preparation and negotiation of U.S. positions on international issues concerning whaling and for all matters involving the IWC. He is staffed by the Department of Commerce and assisted by the Department of State, the Department of the Interior, the Marine Mammal Commission, and by other agencies. The non-federal representative(s) selected as a result of this nomination process is(are) responsible for providing input and recommendations to the U.S. IWC Commissioner representing the positions of non-governmental organizations. Generally, only one non-governmental position is selected for the U.S. Delegation.

The Annual Meeting of the IWC will be held June 22-26, 2009, at the Pestana Casino Park Hotel in Madeira, Portugal. Once the agenda is finalized it will be available on the IWC website at www.iwcoffice.org.

Dated: April 8, 2009.
Rebecca Lent,
Director, Office of International Affairs, National Marine Fisheries Service.

[FR Doc. E9-8514 Filed 4-13-09; 8:45 am]

BILLING CODE 3510-22-S